DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending March 31, 2024. For purposes of this listing, long-term residents, as defined in section 877(e)(2), are treated as if they were citizens of the United States who lost citizenship.

Last name | First name | Middle name/initials
ACKLAND | MICHAEL | JESSE DAIN
ACOSTA | ALBERTO
ADEGBITE | AYEBAWADUATE | BAMIDELE
AL KABBANI | ZAID | KHAIRY
ALEXANDER | GEORGE
AL-GHANNAM | MOHAMMED
ALVAREZ | ALEJANDRO
AMMANN-WALLACE | CHRISTINA | MARIE
ANASTAS | FIONA | CLARE
ANDERSON | KYLE | LAURENCE
AVERILL | FIONA | VICTORIA
AVERY | SIOBHAN | MAY
BABER | JANE | LYN
BAKONYI | ANDREW | ALEXANDER
BARNETT | JOANNA | JANE
BARROWS | ROSS | CHRISTOPHER
BAUER | ARIANE | CAROLE
BAYES | MARY | ANN
BAYES | MARLIN | DAYLE
BAYES | LORI | ANNE
BEGIN | DANIEL | NORMAN
BEHAR | JULIE | B
BELANGER | DANIEL | DOLLARD
BELLHOUSE | ALISON | GRACE
BENTAIEB | MALIK | RYAD
BERGER | PHILIPP | ROMAIN
BERRIDGE | COLTER | ANDERS
BERRIDGE | ANNIKKA | CORDELIA WOODWARD
BEYLEVELD | MARIAN | EDITH
BLIZZARD | ROBERT | MORGAN
BONELLI | ANN | PAULINE
BOOCHER | MICHAEL | JAME
BOOTHE | KAREN | PENELOPE
BOUCHER | HUGH | ALEXANDER COMYN
BRIEGER | JULIA
BRUCKER | CAROLINE
BUCKLEY | SCOTT | VERNON
BULLA | PAMELA | A
BUSCHER | AMANDA | JANE
CAMP | DIANA | LAINE
CAPELLE | NICOLAS | GILLES
CAPLAN | RISA | ALISON
CAREY | ROBERTA | MARIE
CHAIKEN | AUDREY
CHAO | SHAO-HUA
CHEN | STEVEN | JEH-WEN
CHEN | JAMES | TZE MAY
CHOTEM | MARILYN | GAY
CHRINKO | PHILIP | JOSEPH
CHUI | RONALD | WEN-HAN
CIPES | ARI | BARUCH
CLARKE | CHARLES | LAWRENCE SOMERSET
CLINESMITH | JENNIFER | LYNN
COLE | STEPHEN | WILLIAM TYRIE
COLLINS | MATTHEW | JOHN
COLTON | JAMES | WALTER
COMPTON | CHARLES | LEONARD
CORTHOUT | JEROEN | DIRK
COTTI | SARA | ALYSSA
COWAN | LUKE | MAXWELL
CRANFIELD | EMILY | LEYA
CRIBARI | MARIO | ENRICO
CUMBERLAND | MILDRED | KATHLEEN
CUMMINS | NORA | RUTH
CUNNINGHAM | STEPHANIE | LOUISE
DAJANI-BADR | DAHLIA
DAMBACH | HELEN | ELISABETH
DAMIS | ANDREW | WILLIAM
DANTZER | WILLIAM | RAYMOND
DAVIS | SARA | LOUISE
DAY | CHERIE | NICOLE
DE KALBERMATTEN | MAXIME | BRUNO MARIE
DELACOUR | REBECCA | ESTHER
DI PAOLA | GENEVIEVE
DOBRENAN | DEBORAH | ANN
DOCHY | NICHOLAS | ALEXANDER
DONNELLY | PETER | JAMES
DOWLING | HEATHER | BROOKS
DOWSE | DALE | SARA
DOYLE | JOHN | ANTHONY
DRIEDGER | ROSEANNE | IRENE
DROPE | HARRIET | KAREN
DUGGAN | CLEONA | MARY
ECKFELDT | CHARLES | TAYLOR
ECSY | CAROLIN
EICHHORN | ROBERT
EL TORGOMAN | TAREK | AMR
ELDERENBOSCH | ROBBERT | LEROY
ELSWORTH | FRANK | DURRELL
ENGH | CARL | MARTIN
ERSKINE | DOUGLAS | GRAHAM
ERVIN | LIAM | JOSEPH ALEXANDER
FACON | ERIC | RENE
FAGERER | STEPHAN | RUPERT
FARES | ZIAD | FARES
FARMER | LAURA | ELLEN
FIGUEROA | PHILLIPE | IGNACIO
FINGERHUTH | ALLISON
FISSER | GUIDO | MICHAEL
FITZPATRICK | EILIS | MAIRE
FOLEY | AARON | STEPHEN
FONG | ERIN | WHITNEY
FRANKLIN | HENRY | RUPERT
FROEMMEL | ALETA | MARIA
GAINES | THOMAS | JOHN
GAISANO JR | JOSEPH | DAVIDSON CHAN
GARDNER | STEPHANIE | CLARA EDITHA
GARRETT | WILLIAM | TOBIAS
GAUTHIER | DOMINIQUE | MARIE
GIAVI | RAIMONDO
GIDDINGS | THOMAS | BERGER
GILLAM-O'CONNOR | KERRY | VICTORIA
GIRGIS | JOHN | MAGDY
GLYNN | MICHAEL | BAKER
GORAIEB | DELOIS | JANE
GORBITZ | CARLOS
GORMAN | JAMES | DANIEL
GRANATA | GIORGIA | MARIA
GRUNER | GREGORY | EDWARD
GRYGIEL | CHRISTINA | JOANNE
GUILLERMO | BERNARDO | FEDERICO TOMAS
HAEFELE | MARC | PHILIPP
HAEFELE | LAURA | STEPHANIE
HAFIZOVIC | VELIDA
HAND | VICTORIA | ANN
HANNER | ROBERT | HARLAND
HARDISTY | PAUL | RUSSELL
HARRISON | CASSEY | LEE
HAY | STUART | DOUGLAS SCOTT
HAYNES | THOMAS | SCOTT
HAYWARD | MARCUS | DANIEL
HAYWARD | CHRISTOPHER | SCOTT
HELMICK | CARL | ALBERT
HENSON | MARTHA | SADIE
HERBERT | HARRY | MALCOLM
HERMON-TAYLOR | AMY | CAROLINE
HILTON | MICHAEL | JAMES
HINDRICHS | STEFAN | CHRISTOPHER
HOLCOMB | CHADWICK | WARD
HOLMAN | AMBER | LAURIE
HOLTMAN | TIFFANY | DIONE
HOPKINSON | NICHOLAS | JAMES
HOWAT | DAPHNE | CLOTILDE
HURST | CLARISSA | HELEN
HWARNG | GWEN | YUNG-HSIN
IRANI | MANIZEH
JAIN | ANITA | PRERNA
JENNINGS | DONNA | MARIE
JOHN | JOANNA | SYLVINA
JONES | NATHALIE | ANNE
KADISH | LEE | MICHAEL
KARLESKIND | DANIELE | MARIE ANTOINETTE
KATES | DAVID | MARTIN
KENT | REBECCA | JEAN
KENT | ELISA | ANN
KENYON | STEPHANIE | ROSE
KISSMANN | MICHAEL | PELLE
KNUTSSON | HANNES | ROBERT
KOHLER | ANDREAS | BRYAN
KRAPF | SARAH | JEANNE
KRAPF | JOAN | ELLEN
KRIGSTIN | DAVID | JONATHAN
KUO | SHAINA | LI
KYSHAKEVYCH-KATCHALUBA | CRISTINA | IRENE
LACROIX | ALESSANDRA | RENEE
LACROIX | SARAH | TEAGAN
LAKIN-THOMAS | PATRICIA | LOUISE
LAKIN-THOMAS | DUANE | SCOTT
LAMBDEN | ANDREW | DAVID
LANDERER | LESLIE | WILLIAM
LAPAGE | TANA | RAIN
LASS | JOSEPH | HANSEN
LAURIE | AVRUM
LEACH | JOHN | STUART LLEWELYN
LEE | BRIAN | SUN
LEGENNE | SYLVIE
LEIBINGER | PHOEBE | HANNAH DOROTHEE
LENDERS | NICOLAS | KIM
LEVITT | LYNDELL
LIGHTOLLER | THOMAS | CHARLES
LINLEY | THOMAS | ARTHUR
LOISELLE | HELEN | MARIE
LONGLEY | CLARE | HANNAH
LOVRIC | NEDA
LOWEN | DANIEL | GARETH
LOWEN | JEREMY | DAVID
LOWES | STEPHANIE | ANNE
LU | FIONA
LUI | NATHAN | COLLIN
MACDONALD | EMMA | IONA CLAIRE
MACKENZIE | CALUM | KENNETH
MACOR | JUDSON | TRIMBLE
MAHAUD | JEAN GUY | ANDRE
MAHOOD | ANNA | ELISABETH
MAILATH-NURMELA | JULIA | KOKORO
MALTZOFF | MICHAEL
MANDICH | MARIE-ALICE | SOPHIE
MARCUS | JONATHAN | MAYER
MARTEL-CANTELON | MARY | ELEANOR
MARZELLA | MARY | ELLEN
MCKAIGE | DAVID | ALEXANDER
MCMASTER | CAMERON | DONALD MARK
MCMULLEN | DEBORAH | CRISTMAN
MEALINGS TARR | VERONIKA
MEHAFFEY | MICHAEL | RICHARD
MEI | MING | ZHI
MERKEL | THOMAS | KURT
MESCHKO | TANYA | MIN
MICHALSKI | JAN | ANDREW
MOGENSEN | BARBARA | BURKARD
MOHAMEDALLY | ADAM | HAMEED
MONSON | SARAH | CAROLINE
MORACE | MICHAEL | ANTHONY
MORRIS | DANIEL | ALEXANDER
MORRIS | JACQUELINE | C
MORRISON | MICHAEL | PATRICK
MUELLER | ASHLEY | JENNIFER
MULHOLLAND | STEPHEN | EDWARD
MUMME | BEN | WILLIAM
MURRAY | ANA | MARIA
MUSIOL | LARS | JENS BRIAN
NELSON | JULIE | SUZANNE
NETZBAND | PAUL | EDWARD
NEWBANKS | MARK | ASHLEY
NEWCOMER | CANDICE | EVANGELINE
NICKERSON | DAWN | ANNE
NIEBUHR | PHILIPPE | HEINER
NORMAN | ALIA | WETHEROW
NORTON | OLIVIA | SARAH
OATES | RUTH
O'DWYER | DANIEL | FRANCIS
OLIVERA | SOLEDAD
PALMER | ROBERT | ANDREW
PANGBORN | ANTHONY
PARK | PAUL | JUNHYUK
PATEL | MINESH | DINESHDHAI
PATEL | PRIYESH | DINESH
PAVLOV | SAVVA | OLEGOVICH
PAYNE | CATHARINE | ANNE
PEACOCK | PATRICIA | LURMANN
PEARCE | HANNAH | MARGARET
PENNER | RITA | LARAE
PFIFFNER | JEAN-MICHEL
PHILLIPS | JAMES | MATTHEW MCDONALD
PHILLIPS | ALEXANDER | ROBERT
PHILLIPS | MICHELLE | ANNA
PLAYER | ZEN
POND | ELLEN | KATHERINE
PONTUSSON | JONAS | GUNNAR
PRIETO | BECKY | MONSON
PRINGLE | MARY | MARGARET
RANDISI | JOSEPH | MICHAEL
RATHBUN | COLIN | RENE WALTER
RAY | PEGGY | RUTH
REDSTONE | BETH | ANN
REECE (SHEPHERD) | PAGE | ROYALL
REED | TEDDY | HANS
REGAN JR | RICHARD | CHARLES
REID | ALLAN | MCLEAN
REIMER | ADRIAN | NICHOLAS FRIESEN
RIEGEL | DORIS | ANN
RIEGEL | MARTIN | ANDREW
RIETSCHLIN | JOHN | CHARLES
RIFFERT | PIA-ANNA | ELISABETH
RIVERA | GISELA
ROBBINS | MAX | DAVID
ROBINDORE | BRIGITTE | LUCIENNE
ROBINDORE | ANNABELLE | PROMIS
ROBINSON | DIANA | MAUD
ROBINSON | LAURA | MARIE
ROMASCHIN | VERONICA | ALEXANDRA
ROTH | PAUL | CURTIS
RUEBELMANN | MATTHEW | ERICH
RUNYON DUERRENBERGER | LISA | ANNE
RUTHERFORD | BRENT | MCLEAN
SABO | JORDAN | JOHN
SAUNDERS | MARGO | HILARY
SCHILDHAUER | VIRGINIA | ANN
SCHUETT | TOBIAS | DAE-WOO
SCHUHFRIED | ERNA
SCHWERDTFEGER | ULRIKE | AMY
SEEGER | PEGGY
SHANG | PEI | CHUN
SHAPIRO | SHARON | LYNN
SHIRLEY | MARGARET | ANNE
SHOEMAKER | EMMA | PATRICIA
SHOEMARK | SUSAN
SHORTO | JENNIFER | OLIVE
SIMONS | JONATHAN | ROBERT
SINGHANIA | RASAALLKA | MADHUPATI
SKERKER | RACHEL | SIIRI
SLABODKIN | DAVID | BARRY
SMITH | SALLY | LOIS
SPEAS | BENJAMIN | ROBERT
STACK | MARC | MICHEL
STANNERS | JAMES | PETER
STAPLES | IAN | ANTHONY
STARKEBAUM | MARK | ALAN
STAUDTE | DONALD | STEPHEN
STEFANI | KRISTIAN | ANDREAS MARTIN
STEG | DIANE | ANTOINETTE
STEPHENSON | BRITT | NICOLE
STILL | RHIANNA | CLARE
STOHN | JOHN | STEPHEN
STRAND | KIRSTEN | BJERKREIM
STRAUSS | LORALEE | MARIE
SUTCH | BENJAMIN | MARCUS
SUTTON | CLIFFORD | GREGORY
SWANSON | DAVID | ARNOLD
SYTSMA | MICHAEL | JON
TANZER | JANET
TAYLOR | DANIELLE | ALEXA HORTON
TAYLOR | DWAYNE | MCCAUGHEY
TAYLOR | JULIA | CAREN
TE VELDE | KAREN | HELEEN
TEO | TESS | LIN
TOMFORDE | BETTINA
TREADWELL | ANDREW | WILLIAM
TULIP | ARDEN | ANDREWS
VACHICOURAS | KATERINA
VIGARIO | BELMIRO
VIRGIN | GARTH | LARRY
VIROS | DAVID | JEAN-MICHAEL HAROLD
VOGEL | STEPHANIE | MICHELLE
VON KLENCKE | HENRY | JUSCAR ECKHART
VYAS | SATYEN | ARVINDKUMAR
WADDINGTON | SAMUEL | JOSH
WAHL | JEFFREY | THOMAS
WALLRAF | FREDERICA | RUTH MARIA
WARBRICK | JENNIFER | ALISON
WARREN | JEFFERY | THOMAS
WATKINS | RICHARD | ROBERT
WELL | PRISCILA | HAYDON
WILLIAMS | KEITH | SMITH
WINKER | FREDERICK | MICHAEL
WOLFE | ANTHONY | ERIC
WOODROW | CHRISTOPHER | DALE
WRIGHT | CLAUDIA | SOPHIE
WU | KATHARINE | HSING-I
YIN | LI | WEI
YU | BORIS | KENNETH
YU | JIM
ZETLIN | ELIZABETH | LOUISE
ZOBAC | MICHAEL | ANGELO

Dated: April 24, 2024.
Steven B. Levine,
Manager Team 1940, CSDC—Compliance Support, Development & Communications, LB&I:WEIIC:IIC:T4.

[FR Doc. 2024-09243 Filed 4-29-24; 8:45 am]

BILLING CODE 4830-01-P